DEPARTMENT OF JUSTICE

Antitrust Division

Notice Pursuant to the National Cooperative Research and Production Act of 1993; National Armaments Consortium

Notice is hereby given that, on February 13, 2015, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, AEgis Technologies Group, Inc., Huntsville, AL; Aerojet Ordnance Tennessee, Jonesborough, TN; AGM Container Controls, Inc., Tucson, AZ; Anyar, Inc., Fort Walton Beach, FL; BANC3, Inc., Princeton, NJ; Chesapeake Testing Services, Inc., Belcamp, MD; DRS Sustainment Systems, Inc., Saint Louis, MO; Ellwood National Forge Company, Irvine, IN; Fastcom Supply Corporation, Franklin, NJ; Group W, Fairfax, VA; Hydrosoft International, Livermore, CA; Kord Technologies, Inc., Huntsville, AL; Michigan Research Institute, Ann Arbor, MI; Prime Photonics, LC, Blacksburg, VA; Sabre Global Services, Wharton, NJ; SCHOTT North America, Southbridge, VA; Scot Forge Company, Spring Grove, IL; Teamvantage Molding LLC, Forest Lake, MN; Technical Professional Services, Inc., Wayland, MI; TELEGRID Technologies, Inc., Livingston, NJ; TimkenSteel Corporation, Canton, OH; and Universal Propulsion Company, Inc., Fairfield, CA, have been added as parties to this venture.

The following members have withdrawn as parties to this venture: Bulova Technologies Group, Inc., Tampa, FL; Colt Defense, Hartford, CT; Decatur Mold Tool & Engineering, Inc., North Vernon, IN; DRS ICAS, LLC, Buffalo, NY; Ervine Industries, Inc., Ann Arbor, MI; Fibertek, Inc., Herndon, VA; Matrix Systems, Inc., Ashland, VA; Metal Storm, Herndon, VA; Microcosm, Inc., Hawthorne, CA; NI Industries, Inc., Riverbank, CA; Olin Corporation—Winchester Division, East Alton, IL; Otis Products, Inc., Lyons Falls, NY; Parsons Government Services, Pasadena, CA; Polaris Sensor Technologies, Inc., Huntsville, AL; Quantum Technology Consultants, Inc., Franklin Park, NJ; Solidica, Inc., Ann Arbor, MI; The Timken Company, Canton, OH; and UTRON, Manassas, VA.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on August 18, 2014. A notice was published in the Federal Register pursuant to Section 6(b) of the Act on September 17, 2014 (79 FR 55830).

Patricia A. Brink,
Director of Civil Enforcement, Antitrust Division.

[FR Doc. 2015-05835 Filed 3-12-15; 8:45 am]

BILLING CODE 4410-11-P